DEPARTMENT OF JUSTICE

Bureau of Alcohol, Tobacco, Firearms and Explosives

[OMB 1140-0032]

Agency Information Collection Activities; Proposed eCollection of eComments Requested; Records of Acquisition and Disposition, Collectors of Firearms

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed collection OMB 1140-0032 (Records of Acquisition and Disposition, Collectors of Firearms) is being renamed Records of Acquisition and Disposition, Dealers of Type 01/02 Firearms, and Collectors of Type 03 Firearms. This collection is also being revised due to an increase in the total respondents, responses, and burden hours since the last renewal in 2020. The proposed information collection (IC) is also being published to obtain comments from the public and affected agencies.

DATES: Comments are encouraged and will be accepted for 60 days until May 31, 2022.

FOR FURTHER INFORMATION CONTACT: If you have additional comments regarding the estimated public burden or associated response time, suggestions, or need a copy of the proposed information collection instrument with instructions, or additional information, contact: Dawn Smith, ATF Firearms Industry Programs Branch, by mail at 244 Needy Road, Martinsburg, WV 25405, email at fipb-informationcollection@atf.gov, or telephone at 202-648-0890.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a Currently Approved Collection.

2. The Title of the Form/Collection: Records of Acquisition and Disposition, Collectors of Firearms.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): Individuals or households.

Abstract: The recordkeeping requirement for this collection allows Bureau of Alcohol, Tobacco, Firearms and Explosives personnel to inquire about firearms acquisition and disposition (A&D) records, during the course of criminal investigations or government compliance inspections.

5. An estimate of the total number of respondents and the amount of time estimated for an average respondent to respond: An estimated 114,001 respondents will prepare records for this collection once annually, and it will take each respondent approximately 3.05 hours to complete their responses.

6. An estimate of the total public burden (in hours) associated with the collection: The estimated annual public burden associated with this collection is 347,703 hours, which is equal to 114,001 (total respondents) * 1 (# of response per respondent) * 3.05 hours (the total time taken to prepare each response).

7. An Explanation of the Change in Estimates: The adjustment associated with this collection includes an increase in the totals respondents and responses by 62,025, due to the addition of Type 01/02 firearms dealers and Type 03 firearms collectors. Consequently, the total burden hours have also increased by 189,176 since the last renewal in 2020.

If additional information is required contact: Melody Braswell, Department Clearance Officer, United States Department of Justice, Justice Management Division, Policy and Planning Staff, Two Constitution Square, 145 N Street NE, Mail Stop 3.E-405A, Washington, DC 20530.

Dated: March 28, 2022.
Melody Braswell,
Department Clearance Officer for PRA, U.S. Department of Justice.

[FR Doc. 2022-06798 Filed 3-30-22; 8:45 am]

BILLING CODE 4410-FY-P